DEPARTMENT OF ENERGY

Federal Energy Regulatory Commission

[Project No. 1432-010]

Port Bailey Wild Enterprises, LLC; PB Energy, Inc.; Notice of Application for Transfer of License, and Soliciting Comments and Motions To Intervene

November 3, 2010.

On October 22, 2010, Port Bailey Wild Enterprises, LLC (transferor) and PB Energy, Inc. (transferee) filed a joint application for transfer of license for the Dry Spruce Bay Project No. 1432, located on the Dry Spruce Bay on Kodiak Island, Alaska.

Applicants seek Commission approval to transfer the license for the Dry Spruce Bay Project from transferor to transferee.

Applicants' Contact: Robert S. Shane II, Port Bailey Wild Enterprises, LLC, P.O. Box KPY, Kodiak, AK 99697, (360) 989-9843 (Transferor); Robert S. Shane II and Anita Shane, PB Energy, Inc., P.O. Box KPY, Kodiak, AK 99697, (360) 989-9843 (Transferee).

FERC Contact: Kim Carter (202) 502-6486.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-1432) in the docket number field to access the document. For assistance, call toll-free 1-866-208-3372.

Kimberly D. Bose,
Secretary.

[FR Doc. 2010-28328 Filed 11-9-10; 8:45 am]

BILLING CODE 6717-01-P